DEPARTMENT OF STATE

[Public Notice 11492]

60-Day Notice of Proposed Information Collection: DS-160, Online Application for Nonimmigrant Visa and DS-156, Nonimmigrant Visa Application

ACTION: Notice of request for public comment.

SUMMARY: The Department of State is seeking Office of Management and Budget (OMB) approval for the information collections described below. In accordance with the Paperwork Reduction Act of 1995, we are requesting comments on this collection from all interested individuals and organizations. The purpose of this notice is to allow 60 days for public comment preceding submission of the collection to OMB.

DATES: The Department will accept comments from the public up to October 12, 2021.

ADDRESSES: You may submit comments by any of the following methods:

• Web: Persons with access to the internet may comment on this notice by going to www.Regulations.gov. You can search for the document by entering “Docket Number: DOS-2021-0023” in the Search field. Then click the “Comment Now” button and complete the comment form.

FOR FURTHER INFORMATION CONTACT: D. Aikens at PRA_BurdenComments@state.gov or over telephone at (202)-485-7586.

SUPPLEMENTARY INFORMATION:

• Title of Information Collection: Electronic Application for Immigrant Visa and Alien Registration

• OMB Control Number: 1405-0182

• Type of Request: Revision of a Currently Approved Collection

• Originating Office: CA/VO

• Form Number: DS-160, DS-156

• Respondents: Immigrant Visa Applicants

• Estimated Number of Respondents: 5,190,367

• Estimated Number of Responses: 5,190,367

• Average Time per Response: 90 minutes

• Total Estimated Burden Time: 7,785,550.5 hours

• Frequency: Once per respondent's application

• Obligation to respond: Required to Obtain or Retain a Benefit

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The DS-160 and DS-156 collect biographical information from individuals seeking a nonimmigrant visa. The consular officer uses the information collected to elicit information necessary to determine an applicant's eligibility for a visa. Most nonimmigrant visa applicants, as well as certain authorized parole applicants use the DS-160, however posts may authorize an applicant to use the paper-based DS-156 in limited circumstances as outlined below.

Methodology

The applicant submits the DS-160 electronically over an encrypted connection to the Department via the internet. The applicant will be instructed to print a confirmation page containing a bar coded record locator, which the consular office will use to locate the application during processing.

The DS-156 is a paper-based version of the DS-160. In order to obtain a copy of the DS-156, an applicant must contact the Embassy or consulate at which he or she is applying and request a copy. A consular officer may allow an applicant to submit the DS-156 in the following limited circumstances when applicants cannot access the DS-160:

• An applicant has an urgent medical or humanitarian travel need and the consular officer has received explicit permission from the Visa Office to accept form DS-156;

• The applicant is a student exchange visitor who must leave immediately in order to arrive on time for his/her course and the consular officer has explicit permission from the Visa Office to accept form DS-156;

• The applicant is a diplomatic or official traveler with urgent government business and form DS-160 has been unavailable for more than four hours; or

• Form DS-160 has been unavailable for more than three days and the officer receives explicit permission from the Visa Office.

The DS-160 is also used in limited circumstances to process certain parole applicants. When a humanitarian or significant public benefit parole request is authorized by USCIS, the applicants are required to complete the DS-160 and appear for an appointment with the Department of State consular section to verify their identity and collect biometrics for additional security vetting. If no new derogatory information or new identity information is identified during vetting that would cause USCIS to rescind parole approval, the U. S. Consulate issues a document referred to as a boarding foil that allows the beneficiary to travel to the United States within 30 days of it being issued. A final determination on whether to parole an applicant into the United States is then made by CBP at the port of entry.

Kevin E. Bryant,
Deputy Director, Office of Directives Management, Department of State.

[FR Doc. 2021-17332 Filed 8-12-21; 8:45 am]

BILLING CODE 4710-06-P